DEPARTMENT OF VETERANS AFFAIRS

[OMB Control No. 2900-0678]

Agency Information Collection Activity Under OMB Review: On-The-Job Training Agreement

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0678.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0678” in any correspondence.

SUPPLEMENTARY INFORMATION:

Authority: 38 U.S.C. 501(a), 38 U.S.C. 3104 (a)(7), 38 U.S.C. 3116, 38 CFR 21.212.

Title: On The Job Training Agreement.

OMB Control Number: 2900-0678.

Type of Review: Revision of a currently approved collection.

Abstract: VA Form 28-1904, On the Job Training Agreement (chapter 31, title 38 United States Code) serves as a written agreement between an On-The-Job Training (OJT) establishment and the Department of Veterans Affairs. This agreement outlines that the OJT establishment will provide competent instruction, close supervision, maintain progress reports while the Department of Veterans Affairs will furnish tools, supplies and equipment and provide supervision to the Veterans with service-connected disabilities. This agreement is necessary to ensure that the responsibilities of both parties are specified and communicated clearly. VA needs this information collection in order to assure that Veterans in these types of programs are receiving appropriate training and VA can authorize payment of tools, supplies and subsistence allowance as appropriate. This form is used to ensure understanding of the required responsibilities by both parties.

An agency may not conduct or sponsor, and a person is not required to respond to a collection of information unless it displays a currently valid OMB control number. The Federal Register Notice with a 60-day comment period soliciting comments on this collection of information was published at, 89 FR 16818 on Friday, March 8, 2024.

Affected Public: Individuals or Households.

Estimated Annual Burden: 89 hours.

Estimated Average Burden per Respondent: 15 minutes.

Frequency of Response: One time.

Estimated Number of Respondents: 354 per year.

By direction of the Secretary.
Maribel Aponte,
VA PRA Clearance Officer, Office of Enterprise and Integration, Data Governance Analytics, Department of Veterans Affairs.

[FR Doc. 2024-10381 Filed 5-10-24; 8:45 am]

BILLING CODE 8320-01-P